DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment March 31, 2010 Through April 22, 2010
Firm | Address | Date accepted for filing | Products
Crustbuster/Speed King, Inc | 2300 E. Trail Street, P.O. Box 1438, Dodge City, KS 67801 | 4/2/2010 | Grain Drills, Cotton Harvesting, Seed Handling, Grain Carts and Industrial Agricultural Equipment.
Bradford Clocks, Limited | 1080 Hudson Drive, Weatherly, PA 18255 | 4/9/2010 | Manufactures wooden clocks, human and pet cremation urns and flag cases.
Permanent Magnet Co., Inc | 4437 Bragdon St., Indianapolis, IN 46226 | 4/9/2010 | Alnico magnets for industrial use.
Arkansas Flag & Banner, Inc | 800 West Ninth Street, Little Rock, AR 72201 | 4/12/2010 | Manufacture custom products such as flags, banners, table coverings, accessories, etc. that are woven, embroidered, knitted, crocheted, etc. and otherwise processed (e.g. printing).
Able Manufacturing & Assembly, LLC | 1000 Schifferdecker Ave, Joplin, MO 68801 | 4/13/2010 | Specialty truck cabs, hoods, etc.; construction and military cabs, hoods, etc.; Water cooling tower parts; Passenger train bonnets; Wind energy parts; Misc. Plastic Parts.
The Craft-Art Company, Inc | 1209 Logan Circle NW., Atlanta, GA 30318 | 4/13/2010 | The firm produces custom wood counter, table, and vanity tops. Primary material is wood.
KMS Fab, LLC | 100 Parry Street, Luzerne, PA 18709 | 4/14/2010 | Manufactures precision sheet metal fabrications ranging from prototype to large production runs.
Zenith Engraving Company, Inc | 731 Wilson Street, Chester, SC 29706 | 4/14/2010 | The firm produces screens for rotary screen textile printing; primary manufacturing material is nickel.
Fort Worth Aluminum Foundry, Inc | 2708 North Nichols, Fort Worth, TX 76106 | 4/16/2010 | Manufacturer of Custom cast aluminum for heavy industry pressure leaf filters.
NCAD Products, Inc | P.O. Box 622188, Oviedo, FL 32762 | 4/16/2010 | The firm produces industrial, commercial and medical goods. Primary materials include steel and plastic.

Any party having a substantial interest in these proceedings may request a public hearing on the matter.

A written request for a hearing must be submitted to the Trade Adjustment Assistance for Firms Division, Room 7106, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: April 22, 2010.
Bryan Borlik,
Program Director.

[FR Doc. 2010-9948 Filed 4-28-10; 8:45 am]

BILLING CODE 3510-24-P